DEPARTMENT OF JUSTICE

Antitrust Division

Notice Pursuant to the National Cooperative Research and Production Act of 1993—The Instrumentation, Systems, and Automation Society

Notice is hereby given that, on September 9, 2004, pursuant to Section 6(a) of the National Cooperative Research and Production Act of 1993, 15 U.S.C. 4301 et seq. (“the Act”), the Instrumentation, Systems, and Automation Society (“ISA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: The Instrumentation, Systems, and Automation Society, Research Triangle Park, NC. The nature and scope of ISA's standards development activities are: The development and maintenance of standards, recommended practices, and technical reports for instrumentation, measurement, control, systems, and automation.

Dorothy B. Fountain,
Deputy Director of Operations, Antitrust Division.

[FR Doc. 04-22891 Filed 10-12-04; 8:45 am]

BILLING CODE 4410-11-M